COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add to the Procurement List services to be furnished by nonprofit agencies employing persons who are blind or have other severe disabilities.

Comments Must be Received on or Before: December 7, 2008.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Custodial Grounds Maintenance, Multiple Locations Parcel #13, St John, VI.

Service Type/Location: Grounds Maintenance, Multiple Locations St Thomas, 6310 Est Nazaareth, Red Hook, Whintberg #3 Great Northside Qtr., St Thomas, VI.

NPA: The Corporate Source, Inc., New York, NY.

Contracting Activity: NATIONAL PARK SERVICE, SOUTHEAST REGION.

Service Type/Location: Laundry Service, Fort Indiantown Gap, USPFO of PA, Annville, PA.

NPA: Opportunity Center, Incorporated, Wilmington, DE.

Contracting Activity: DEPT OF THE ARMY, XRAW7NX USPFO ACTIVITY PA ARNG.

Service Type/Location:

Reception Service Support, Fort Sill, Post Wide, Fort Sill, OK.

Reception Service Support, Fort Lewis, Post Wide, Fort Lewis, WA.

Reception Service Support, Fort Hood, Post Wide, Fort Hood, TX.

Reception Service Support, Fort Bliss, Post Wide, Fort Bliss, TX.

Reception Service Support, Fort Campbell, Post Wide, Fort Campbell, KY.

Reception Service Support, Employment Source Program Office, 600 Ames Street, Fayetteville, NC.

Reception Service Support, Fort Bragg, Post Wide, Fort Bragg, NC.

NPA: Employment Source, Inc., Fayetteville, NC.

Contracting Activity: DEPT OF THE ARMY, XR W6BB FT BRAGG.

Barry S. Lineback,
Acting Director, Program Operations.

[FR Doc. E8-26597 Filed 11-6-08; 8:45 am]

BILLING CODE 6353-01-P